INTERNATIONAL TRADE COMMISSION

Sunshine Act Meeting Notice; USITC SE-05-019

AGENCY: United States International Trade Commission.

Time and Date: May 24, 2005 at 11 a.m.

Place: Room 101, 500 E Street SW., Washington, DC 20436, Telephone: (202) 205-2000.

Status: Open to the public.

Matters to be Considered: 1. Agenda for future meetings: none.

2. Minutes

3. Ratification List

4. Inv. Nos. 701-TA-249 and 731-TA-262, 263, and 265 (Second Review) (Certain Iron Construction Castings from Brazil, Canada, and China) briefing and vote. (The Commission is currently scheduled to transmit its determination and Commissioners' opinions to the Secretary of Commerce on or before June 7, 2005.)

5. Outstanding action jackets: None.

In accordance with Commission policy, subject matter listed above, not disposed of at the scheduled meeting, may be carried over to the agenda of the following meeting.

By order of the Commission.
Issued: May 13, 2005.
Marilyn R. Abbott,
Secretary to the Commission.

[FR Doc. 05-9932 Filed 5-13-05; 2:22 pm]

BILLING CODE 7020-02-P